DEPARTMENT OF JUSTICE

Office of Justice Programs

[OJP (NIJ) Docket No. 1732]

Special Technical Committee on Law Enforcement Firearms

AGENCY: National Institute of Justice, Justice.

ACTION: Notice.

SUMMARY: The National Institute of Justice (NIJ) is seeking qualified individuals to serve on a Special Technical Committee (STC) on Law Enforcement Firearms. The purpose of the STC will be to update and revise the minimum performance standards NIJ Standard 0112.03 (Revision A), Autoloading Pistols for Police Officers, and NIJ Standard 0113.00, 12-Gauge Shotguns for Police Use, and to develop a new minimum performance standard for patrol rifles.

DATES: Individuals wishing to submit an application to the National Institute of Justice must do so by 5:00 p.m. Eastern Time April 4, 2017, as instructed below.

How to Respond and What To Include: To apply to serve on the Special Technical Committee on Law Enforcement Firearms, please email a resume or curriculum vitae to the point of contact listed below by the deadline listed above. Please put “Special Technical Committee on Law Enforcement Firearms” in the subject line. If submitting hardcopy application materials, please send to the attention of the point of contact listed below at the address provided. Hardcopy application materials must be postmarked by the date listed above. There is no page limit or limit to the amount of information that an interested applicant may submit to demonstrate his or her qualifications. More information on the individuals sought for the STC is provided below. No materials will be returned. All materials submitted will be treated confidentially and discreetly and may be shared with U.S. Government staff or U.S. Government contractors for evaluation purposes related to selection for the STC only.

FOR FURTHER INFORMATION CONTACT: Mark Greene, Office of Science and Technology, National Institute of Justice, 810 7th Street NW., Washington, DC 20531; telephone number: (202) 307-3384; email address: mark.greene2@usdoj.gov.

SUPPLEMENTARY INFORMATION: NIJ is seeking qualified individuals to serve on a Special Technical Committee (STC) for Law Enforcement Firearms. The purpose of the STC will be to update NIJ Standard 0112.03 (Revision A), Autoloading Pistols for Police Officers (https://www.ncjrs.gov/pdffiles1/nij/249929.pdf), and NIJ Standard 0113.00, 12-Gauge Shotguns for Police Use (https://www.ncjrs.gov/pdffiles1/photocopy/244968NCJRS.pdf), and to develop a new minimum performance standard for patrol rifles.

NIJ develops and publishes voluntary equipment standards that specifically address the needs of law enforcement, corrections, and other criminal justice agencies to ensure that equipment is safe, reliable, and performs according to established minimum performance requirements. NIJ standards are consensus-based and designed to articulate the criminal justice end user community's operational requirements regarding equipment performance. They are designed to provide a level of confidence in a product's fitness for purpose and allow comparison of products based on standardized test methods. NIJ maintains active standards for a variety of equipment, including ballistic-resistant body armor, stab-resistant body armor, restraints, bomb suits, CBRN protective ensembles, and offender tracking systems. More information on NIJ standards is available at http://www.nij.gov/standards.

NIJ anticipates the STC for Law Enforcement Firearms will be comprised of approximately 25 individual firearms subject matter experts from federal, state, and local law enforcement agencies; ballistics test laboratories; firearms industry associations; and other relevant technical or governmental organizations. Individuals will be selected to achieve the best possible balance of knowledge and expertise. Due to the practitioner-driven nature of the standards and limited size of the STC, only firearms industry associations will be permitted to participate directly on the STC to represent the firearms manufacturing community.

Submitted materials must clearly demonstrate the applicant's qualifications to serve on the STC. Law enforcement practitioners must be active sworn personnel, should have experience with all three types of firearms—pistols, shotguns, and rifles—and should have specialized firearms responsibilities in his or her respective agency that would especially qualify him or her to serve on the STC, such as armorer, firearms instructor, range master, or special operations. Individuals operating at all levels of a law enforcement agency are encouraged to apply, however individuals at the level of sergeant and above are preferred. Laboratory representatives should have a level of experience with firearms and ballistics testing to be considered an expert in testing methodology. If provisionally selected to serve on the STC, candidates should expect to disclose any financial conflicts of interest with firearms or ammunition manufacturers for assessment prior to final selection.

NIJ anticipates that the STC will meet for two to three days in the Washington, DC area approximately four to five times over the course of approximately 18-24 months starting sometime in 2017. The remainder of the work will be conducted by telephone and email. It is expected that travel and per diem expenses for travel originating outside the local Washington, DC area will be reimbursed; however, participation time will not be reimbursed. Any potential reimbursements are subject to, inter alia, the availability of appropriated funds, and to any modifications or additional requirements that may be imposed by law.

NIJ anticipates that its Compliance Testing Program (CTP), which currently certifies ballistic-resistant body armor, stab-resistant body armor, and autoloading pistols, will incorporate both shotguns and patrol rifles for certification once the new standards are complete. More information on the Autoloading Pistols CTP is available at https://justnet.org/compliant/Autoloading-Pistols.html. The STC should expect to discuss the CTP certification process and conformity assessment in general during the standards development process.

Nancy Rodriguez,
Director, National Institute of Justice.

[FR Doc. 2016-31876 Filed 1-3-17; 8:45 am]

BILLING CODE 4410-18-P